POSTAL SERVICE

39 CFR Part 20

International Competitive Services Product and Price Changes

AGENCY: Postal Service™.

ACTION: Final rule.

SUMMARY: The Postal Service is revising Mailing Standards of the United States Postal Service, International Mail Manual (IMM®), to reflect the prices, product features, and classification changes to Competitive Services, as established by the Governors of the Postal Service.

DATES: Effective date: January 27, 2019.

FOR FURTHER INFORMATION CONTACT: Paula Rabkin at 202-268-2537.

SUPPLEMENTARY INFORMATION: New prices will be posted under Docket Number CP2019-3 on the Postal Regulatory Commission website at http://www.prc.gov.

Over the course of time, country names have changed due to a variety of political or cultural reasons. In collaboration with International Postal Affairs and requests made through the Universal Postal Union, the Postal Service is updating country names throughout mailing standards, changing Great Britain and Northern Ireland to United Kingdom of Great Britain and Northern Ireland and changing Swaziland to Eswatini.

This final rule describes the international price and classification changes and the corresponding mailing standards changes for the following Competitive Services:

• Global Express Guaranteed® (GXG®).

• Priority Mail Express International®.

• Priority Mail International®.

• First-Class Package International Service® (FCPIS®).

• International Priority Airmail® (IPA®).

• International Surface Air Lift® (ISAL®).

• Direct Sacks of Printed Matter to One Addressee (Airmail M-bag® services).

• The following international extra services and fees:

• International Insurance.

• International Certificate of Mailing.

• International Registered Mail.

• International Return Receipt.

• International Postal Money Orders.

• International Money Order Inquiry Fee.

• International Money Transfer Service.

• Customs Clearance and Delivery Fee.

New prices will be located on the Postal Explorer® website at https://pe.usps.com.

Global Express Guaranteed

Global Express Guaranteed (GXG) service provides fast international shipping and date-certain delivery with a money-back guarantee, with international transportation and delivery provided through an alliance with FedEx Express®. The price increase for GXG service averages 4.9 percent.

The Postal Service provides Commercial Base® pricing to online customers who prepare and pay for GXG shipments via USPS-approved payment methods (other than Click-N-Ship® service), with a 5 percent discount off the published retail prices for GXG service. Customers who prepare GXG shipments via Click-N-Ship service will continue to pay retail prices. Commercial Plus® prices are set to match the Commercial Base prices.

Priority Mail Express International

Priority Mail Express International service provides fast service to approximately 180 countries in 3-5 business days, for many major markets, although the actual number of days may vary based upon origin, destination and customs delays. Priority Mail Express International with Money-Back Guarantee service is available for certain destinations. The price increase for Priority Mail Express International service averages 3.9 percent. The Commercial Base price for customers who prepare and pay for Priority Mail Express International shipments via permit imprint, online at USPS.com®, or as registered end-users using an authorized PC Postage vendor (with the exception of Click-N-Ship service) will be 4.9 percent below the retail price. Customers who prepare Priority Mail Express International shipments via Click-N-Ship service pay retail prices. Commercial Plus prices are set to match the Commercial Base prices.

The Postal Service will also continue to include Priority Mail Express International service in customized Global Expedited Package Services (GEPS) contracts offered to customers who meet certain revenue thresholds and are willing to commit a larger amount of revenue to the USPS® for Priority Mail Express International service and Priority Mail International service.

Priority Mail International

Priority Mail International is an economical way to send merchandise and documents to approximately 180 countries in 6-10 business days, for many major markets, although the actual number of days may vary based upon origin, destination and customs delays. The price increase for Priority Mail International service averages 3.9 percent. The Commercial Base price for customers who prepare and pay for Priority Mail International items via permit imprint, online at USPS.com, or as registered end-users using an authorized PC Postage vendor (with the exception of Click-N-Ship) will be 5 percent below the retail price. Customers who prepare Priority Mail International shipments via Click-N-Ship pay retail prices. Commercial Plus prices are set to match Commercial Base prices. The Postal Service will continue to include Priority Mail International service in customized GEPS contracts offered to customers who meet certain revenue thresholds and are willing to commit to a larger amount of revenue to the USPS for Priority Mail Express International and Priority Mail International.

Priority Mail International flat rate pricing continues to be available for Flat Rate Envelopes, Small Flat Rate Priced Boxes, and Medium and Large Flat Rate Boxes.

First-Class Package International Service

First-Class Package International Service (FCPIS) is an economical international service for small packages weighing less than 4 pounds and not exceeding $400 in value. The price increase for FCPIS averages 3.9 percent. The Commercial Base price for customers who prepare and pay for FCPIS items via permit imprint or by USPS-approved online payment methods will be 5 percent below the retail price. Customers who prepare FCPIS shipments via Click-N-Ship service pay retail prices. Commercial Plus prices are set to match the Commercial Base prices.

Electronic USPS Delivery Confirmation International service—abbreviated E-USPS DELCON INTL®—is available for First-Class Package International Service items to select destination countries at no charge.

International Priority Airmail and International Surface Air Lift

International Priority Airmail (IPA) service, including IPA M-bags®, is an economical commercial service designed for volume mailings of all First-Class Mail International postcards, letters, and large envelopes (flats), and for volume mailings of First-Class Package International Service packages (small packets) weighing up to a maximum of 4.4 pounds. IPA shipments are typically flown to foreign destinations (exceptions apply to Canada and Mexico) and are then entered into that country's air or surface priority mail system for delivery. The price increase for IPA and IPA M-bags is 19.9 percent. International Surface Airlift (ISAL) is similar to IPA except that once flown to the foreign destination, it is entered into that country's air or surface nonpriority mail system for delivery. The price increase for ISAL, as well as ISAL M-Bags, is 19.9 percent.

Direct Sacks of Printed Matter to One Addressee (Airmail M-bags)

An airmail M-bag is a direct sack of printed matter sent to a single foreign addressee at a single address. Prices are based on the weight of the sack. The price increase for Airmail M-bag service averages 5.0 percent.

International Extra Services and Fees

Depending on country destination and mail type, customers may add a variety of extra services to their outbound shipments and pay a variety of fees. The Postal Service proposes to increase fees for certain competitive international extra services including:

International Insurance

Global Express Guaranteed, each additional $100 or fraction over $100 (maximum indemnity varies by country).

Fee: $1.05.

$100.01-$200.00 | $1.05
$200.01-$300.00 | 2.10
$300.01-$400.00 | 3.15
$400.01-$500.00 | 4.20
$500.01-$600.00 | 5.25
$600.01-$700.00 | 6.30
$700.01-$800.00 | 7.35
$800.01-$900.00 | 8.40
$8.40 plus $1.05 per $100 or fraction thereof over $900 | 1.05

Priority Mail Express International and Priority Mail International, each additional $100 or fraction over $100 (maximum indemnity varies by country).

Fee: $1.05.

$200.01-$300.00 | $6.50
$300.01-$400.00 | 8.05
$400.01-$500.00 | 9.60
$500.01-$600.00 | 11.15
$600.01-$700.00 | 12.70
$700.01-$800.00 | 14.25
$800.01-$900.00 | 15.80
$15.80 plus $1.55 per $100 or fraction thereof over $900 in declared value | 1.55

Certificate of Mailing
| Fee
Individual pieces
Individual article (PS Form 3817) | $1.45
Duplicate copy of PS Form 3817 or PS Form 3665 (per page) | 1.45
Firm mailing sheet (PS Form 3665), per piece (minimum 3) First-Class Mail International only | 0.50
Bulk quantities
For first 1,000 pieces (or fraction thereof) | 8.55
Each additional 1,000 pieces (or fraction thereof) | 1.07
Duplicate copy of PS Form 3606 | 1.45

Return Receipt

Fee: $4.10.

International Postal Money Orders

Fee: $9.50.

International Money Order Inquiry

Fee: $7.25.

International Money Transfer Service

Fee:

$0.01-$750.00 | $13.95
$750.01-$1,500.00 | 19.95
Refunds | 29.95
Change of Recipient | 15.50

Customs Clearance and Delivery

Fee: Per piece $6.40.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

[Throughout the IMM, change all references to “Great Britain and Northern Ireland” to “United Kingdom of Great Britain and North Ireland” and place in correct alphabetical order in lists]

[Throughout the IMM, change all references to “Swaziland” to “Eswatini” and place in correct alphabetical order in lists]

* * * * *

We will publish an appropriate amendment to 39 CFR part 20 to reflect these changes.

Ruth Stevenson,
Attorney, Federal Compliance.

[FR Doc. 2018-22472 Filed 10-16-18; 8:45 am]

BILLING CODE 7710-12-P